DEPARTMENT OF STATE

Bureau of Diplomatic Security, Office Foreign Missions, Diplomatic Motor Vehicles

[Public Notice 3923]

30-Day Notice of Proposed Information Collection: Form DS-1972, Driver License and Tax Exemption Card Application; OMB Collection Number 1405-0105

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Regular Submission to extend a currently approved collection.

Originating Office: Bureau of Diplomatic Security, Office of Foreign Missions (DS/OFM).

Title of Information Collection: U.S. Department of State Driver Licenses and Tax Exemption Card Application.

Frequency: As often as is necessary to issue/renew driver licenses and/or tax exemption cards.

Form Number: DS-1972.

Respondents: Foreign mission personnel assigned to the United States: diplomatic, consular, administrative and technical, specified official representatives of foreign governments to international organizations, and their dependents.

Estimated Number of Respondents: 12,500.

Average Hours Per Response: .5 hours (30 minutes).

Total Estimated Burden: 6,250.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from Diplomatic Motor Vehicles, Office of Foreign Missions, 3507 International Place, NW, State Annex 33, Room 218, Washington, DC 20008, who may be reached on (202) 895-3528. Public comments and questions should be directed to the State Department Desk Officer, Office of Information and Regulatory Affairs, Office of Management and Budget (OMB), Washington, DC 20530, who may be reached on 202-395-3897.

Dated: December 28, 2001.
John R. Arndt,
Acting Deputy Assistant Secretary, Bureau of Diplomatic Security, Office of Foreign Missions, U.S. Department of State.

[FR Doc. 02-4655 Filed 2-26-02; 8:45 am]

BILLING CODE 4710-43-P